DEPARTMENT OF STATE

[Public Notice 6369]

Executive Order 11423, as Amended; Notice of Receipt of Application To Amend Presidential Permit for an International Bridge on the U.S.-Mexico Border at Brownsville, TX and Matamoros, Tamaulipas, Mexico

AGENCY: Department of State.

ACTION: Notice.

SUMMARY: The Department of State hereby gives notice that, on September 4, 2008, it received an application to amend the Presidential Permit that authorizes the construction, operation, and maintenance of the Veterans International Bridge at Los Tomates on the U.S.-Mexico border at Brownsville, Texas and Matamoros, Tamaulipas, Mexico. Cameron County, Texas filed the application and is acting as the project sponsor. Cameron County proposes to build a second bridge, essentially identical to the existing four-lane bridge, to accommodate increasing traffic volume, to improve pedestrian safety, and to allow more efficient separation of different types of traffic as it approaches the border station owned by the General Services Administration and operated by the Bureau of Customs and Border Protection of the Department of Homeland Security. The proposed second bridge would not require changes to the border station itself.

The Department of State's jurisdiction over this application is based upon Executive Order 11423 of August 16, 1968, as amended. As provided in E.O. 11423, the Department is circulating this application to relevant federal and state agencies for review and comment. Under E.O. 11423, the Department has the responsibility to determine, taking into account input from these agencies and other stakeholders, whether this proposed amendment to the existing Presidential Permit is in the U.S. national interest.

DATES: Interested members of the public are invited to submit written comments regarding this application on or before November 24, 2008 to Mr. Daniel Darrach, U.S.-Mexico Border Affairs Coordinator, via e-mail at WHA-BorderAffairs@state.gov, or by mail at WHA/MEX—Room 3909, Department of State, 2201 C St., NW., Washington, DC 20520.

FOR FURTHER INFORMATION CONTACT: Mr. Daniel Darrach, U.S.-Mexico Border Affairs Coordinator, via e-mail at WHA-BorderAffairs@state.gov; by phone at 202-647-9894; or by mail at WHA/MEX—Room 3909, Department of State, 2201 C St., NW., Washington, DC 20520. General information about Presidential Permits is available on the Internet at http://www.state.gov/p/wha/rt/permit/.

SUPPLEMENTARY INFORMATION: This application and supporting documents are available for review in the Office of Mexican Affairs, Border Affairs Unit, Department of State, during normal business hours.

Dated: September 19, 2008.
Alex Lee,
Director, Office of Mexican Affairs, Department of State.

[FR Doc. E8-22581 Filed 9-24-08; 8:45 am]

BILLING CODE 4710-29-P